DEPARTMENT OF ENERGY

Federal Energy Regulatory Commission

[Docket No. EC05-3-000]

Allegheny Energy Supply Company, LLC, et al.; Notice of Filing

October 13, 2004.

Take notice that on October 8, 2004, Allegheny Energy Supply Company, LLC (AE Supply), Allegheny Energy Supply Lincoln Generating Facility, LLC (Lincoln), Grant Peaking Power, LLC (Grant), and Colbath Peaking Power, LLC (Colbath and together with AE Supply, Lincoln and Grant, the Applicants) filed an application for disposition of jurisdictional facilities under section 203 of the Federal Power Act. Applicants request the Commission's approval for AE Supply to sell either: (1) 100 percent of the membership interests in Lincoln to Grant or; in the alternative, (2) 90 percent of the membership interests in Lincoln to Grant and 10 percent of such interests to Colbath. Applicants state that Lincoln states that it owns and operates the approximately 672 MW Lincoln Generating Facility located in Manhattan, Illinois. Applicants further state that AE Supply proposes to assign to Lincoln AE Supply's interests in an associated Energy Services Conversion Agreement dated June 13, 2002 with Exelon Generating Company, LLC.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicants. On or before the comment date, it is not necessary to serve motions to intervene or protests on persons other than the Applicants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 29, 2004.

Linda Mitry,
Acting Secretary.

[FR Doc. E4-2945 Filed 10-29-04; 8:45 am]

BILLING CODE 6717-01-P